DEPARTMENT OF TRANSPORTATION

Research and Special Programs Administration

[Docket No. RSPA-01-10867; Notice 1]

Transportation of Natural Gas by Pipeline Petition for Waiver; Williams Gas Pipelines-West

Williams Gas Pipelines-West (or “Williams”) has petitioned the Research and Special Programs Administration for a waiver from compliance with the regulation in 49 CFR 192.611(d) until June 30, 2003. This regulation requires pipeline operators to confirm or revise the maximum allowable operating pressure of certain gas transmission lines within 18 months after population growth changes the classification of the line.

The petition concerns a 1500-foot pipeline segment constructed in 1991 in Utah County, Utah, that changed from Class 2 to Class 3 due to development of a subdivision. The segment is part of the Kern River natural gas transmission line, which runs from Wyoming to the San Joaquin Valley near Bakersfield, California, where the gas is used in the generation of electricity.

The petition indicates the change in classification comes while Williams is undertaking an expansion project on its Kern River line, which it plans to complete in 2003, pending approval by the Federal Energy Regulatory Commission. Rather than replace the 1500-foot segment with new pipe to satisfy § 192.611(d), the petition indicates Williams prefers to relocate the segment to a less populated right-of-way as part of the expansion project. The relocation alternative would result in a single impact to land owners and the environment during the construction.

Our Western Region pipeline office has investigated the 1500-foot pipeline segment. That office reports that Williams is meeting periodically with the developer of the subdivision to ensure the developer is aware of the pipeline and its associated risk. The Western Region office also says that to minimize threats to the segment, Williams is patrolling the segment weekly, observing all nearby excavations, and notifying land owners of the existence of the pipeline and what to do in the case of an emergency. In addition, the Western Region office has confirmed that the segment has not had any deficient corrosion control readings, there are no geologically unstable areas near the segment, and the segment has had no reported leaks or damage. In sum, based on the petition and the Western Region office's investigation, we believe Williams is taking all reasonable steps to maintain the integrity of the segment.

We are authorized to waive compliance with § 192.611(d) if the waiver is not inconsistent with pipeline safety and we state the reasons for granting the waiver (49 U.S.C. 60118(c)). In view of the good safety record and condition of the 1500-foot segment, we think compliance with the 18-month deadline under § 192.611(d) is unnecessary for safety. We also support the goals of lower risk and less environmental disturbance that would result from relocating the segment as Williams plans. Therefore, we propose to waive compliance with § 192.611(d) until June 30, 2003.

According to the petition, June 30, 2003, should allow enough time to complete the expansion project. However, if there is an unforeseen delay in the project, we may extend the June 30, 2003, deadline up to an additional 6 months without further opportunity to comment by publishing a notice of such extension in the Federal Register.

We invite interested persons to comment on the proposed waiver by submitting such data, views, or arguments as they may desire. You may submit written comments by mailing or delivering an original and two copies to the Dockets Facility, U.S. Department of Transportation, Room PL-401, 400 Seventh Street, SW., Washington, DC 20590-0001. The Dockets Facility is open from 10 a.m. to 5 p.m., Monday through Friday, except on Federal holidays when the facility is closed. Or you may submit written comments electronically at the following web address: http://dms.dot.gov. To file written comments electronically, after logging onto http://dms.dot.gov, click on “Electronic Submission.” You can also read comments and other material in the docket at the same Web address. All written comments should identify the docket and notice numbers stated in the heading of this notice. Anyone who wants confirmation of mailed comments must include a self-addressed stamped postcard.

We will consider all comments received by December 26, 2001 before taking final action on the petition. Late filed comments will be considered so far as practicable. No public hearing is contemplated, but one may be held at a time and place set in a notice in the Federal Register if requested by an interested person desiring to comment at a public hearing and raising a genuine issue.

Authority: 49 U.S.C. 60118(c); and 49 CFR 1.53.

Issued in Washington, DC on November 16, 2001.
Stacey L. Gerard,
Associate Administrator for Pipeline Safety.

[FR Doc. 01-29259 Filed 11-23-01; 8:45 am]

BILLING CODE 4910-60-P